Title 3—

The President

Proclamation 10933 of May 7, 2025

National Foster Care Month, 2025

By the President of the United States of America

A Proclamation

Families raise our children, pass down our values, and hold communities together, forming the foundation of a strong country. Yet, far too often, for reasons beyond their control, children and young people find themselves in situations without an avenue for safe and loving care. These circumstances can be difficult for them, but it is the devoted foster parents across America who rise to the occasion with selfless compassion to ensure every child receives love, support, and a sense of belonging.

During National Foster Care Month, the First Lady and I honor the individuals and families who make room in their hearts and homes for thousands of children and youth throughout the year. Without a question, these dedicated men and women are unsung heroes in our local communities across the country for giving each child in their care as much normalcy as possible while also preparing them to be reunited with family or adopted.

My Administration estimates that, annually, more than 360,000 children and youth need the safety and stability a foster family provides. These licensed and trained foster or kinship-care families step up in times of need to offer emotional support and stability. Foster families, with the help of countless professionals and volunteers—including clergy, educators, attorneys, judges, social workers, and law enforcement personnel—can help change the course of young lives for the better. These noble caregivers devote their time and talent to ensuring every child has a safe and healthy environment in which to grow and thrive.

As a Nation of enduring faith and strong, guiding principles, every child deserves the blessings of a firm foundation and endless opportunity. That is why I proudly signed into law the landmark Family First Prevention Services Act during my first term, which utilizes evidence-based intervention methods to keep families intact, whenever possible. Targeted, proactive services—including mental health support, substance abuse treatment, in home parental skills training, housing assistance, and job training—focus on preventing the root causes of conflicts in the home.

Despite the work we have achieved, there is more to be done. That is why our First Lady is passionately focused on supporting young people through her BE BEST initiative and fostering the future for children and young adults. Her efforts help children reach their fullest potential, including transformative action for youth who have experienced foster care to help them pursue their dreams through education and continued support.

Together, we also recognize the need for more men and women to answer the call and serve as foster families. Foster families help every child realize their worth and inherent value, instilling them with the courage, character, and confidence to achieve their American Dream. We are incredibly grateful for their compassion and selfless dedication to protecting our Nation's most precious treasure.

NOW, THEREFORE, I, DONALD J. TRUMP, President of the United States of America, by virtue of the authority vested in me by the Constitution and the laws of the United States, do hereby proclaim May 2025 as National Foster Care Month. I call upon all Americans to find ways to support children and youth in foster care, and to recognize the invaluable contributions of foster parents and other caregivers.

IN WITNESS WHEREOF, I have hereunto set my hand this seventh day of May, in the year of our Lord two thousand twenty-five, and of the Independence of the United States of America the two hundred and forty-ninth.

[FR Doc. 2025-08487

Filed 5-9-25; 11:15 am]

Billing code 3395-F4-P